DEPARTMENT OF HEALTH AND HUMAN SERVICES

National Institutes of Health

National Institute of Biomedical Imaging and Bioengineering; Amended Notice of Meeting

Notice is hereby given of a change in the meeting of the National Institute of Biomedical Imaging and Bioengineering Special Emphasis Panel, March 14, 2011, 6 p.m. to March 16, 2011, 12 p.m., Sheraton Los Angeles Downtown Hotel, 711 South Hope Street, Los Angeles, CA, 90017 which was published in the Federal Register on January 5, 2011, 76 FR 572.

This Federal Register Notice has been amended to change the meeting location. The meeting will be held at the Sheraton Los Angeles Downtown Hotel. The meeting is closed to the public.

Dated: January 24, 2011.
Jennifer S. Spaeth,
Director, Office of Federal Advisory Committee Policy.

[FR Doc. 2011-1875 Filed 1-27-11; 8:45 am]

BILLING CODE 4140-01-P